DEPARTMENT OF JUSTICE

National Institute of Corrections

Advisory Board Meeting

Time and Date: 8:30 a.m. to 4:30 p.m. on Monday, January 23, 2006. 8:30 a.m. to 4:30 p.m. on Tuesday, January 24, 2006.

Place: The Holiday Inn, 625 First Street, Alexandria, Virginia 22314.

Status: Open.

Matters To Be Considered: Reports; Gangs; NIC Balance Scored Card update; Faith-based Recommendations; PREA Regional Workshops; Mental Health Hearing; Quarterly Report by Office of Justice Programs.

Contact for Further Information: Larry Solomon, Deputy Director, 202-307-3106, ext. 44254.

Morris L. Thigpen,
Director.

[FR Doc. 06-178 Filed 1-9-06; 8:45 am]

BILLING CODE 4410-36-M